DEPARTMENT OF COMMERCE

International Trade Administration

[A-351-842]

Certain Uncoated Paper From Brazil: Notice of Initiation and Preliminary Results of Antidumping Duty Changed Circumstances Review

AGENCY: Enforcement and Compliance, International Trade Administration, Department of Commerce.

SUMMARY: The Department of Commerce (Commerce) is initiating a changed circumstances review (CCR) of the antidumping duty (AD) order on certain uncoated paper (uncoated paper) from Brazil. Further, Commerce preliminarily determines that Sylvamo do Brasil Ltda. (SVBR) is the successor-in-interest to International Paper do Brasil Ltda. (IP) and that Sylvamo Exports Ltda. (SVEX) is the successor-in-interest to International Paper Exportadora Ltda. (IPEX). Interested parties are invited to comment on these preliminary results.

DATES: Applicable November 26, 2021.

FOR FURTHER INFORMATION CONTACT: Christopher Maciuba, AD/CVD Operations, Office V, Enforcement and Compliance, International Trade Administration, U.S. Department of Commerce, 1401 Constitution Avenue NW, Washington, DC 20230; telephone: (202) 482-5831.

SUPPLEMENTARY INFORMATION:

Background

On March 3, 2016, Commerce published in the Federal Register an AD order on uncoated paper from Brazil.¹ We assigned IP and IPEX (collectively, International Paper) a cash deposit rate of 41.39 percent.² International Paper last received a calculated rate, in the third administrative review of this proceeding, of 20.80 percent.³ On October 4, 2021, Commerce received a request on behalf of SVBR and SVEX (collectively, Sylvamo) for an expedited CCR to establish SVBR and SVEX as the successors-in-interest to IP and IPEX, respectively.⁴ Sylvamo asked that it be subject to International Paper's AD margin for uncoated paper from Brazil. No interested parties filed comments opposing the CCR request.

¹ See Certain Uncoated Paper from Australia, Brazil, Indonesia, the People's Republic of China, and Portugal: Amended Final Affirmative Antidumping Determinations for Brazil and Indonesia and Antidumping Duty Orders, 81 FR 11174 (March 3, 2016) (Order).

² Id., 81 FR at 11176.

³ See Certain Uncoated Paper from Brazil: Final Results of Antidumping Duty Administrative Review; 2018-2019, 86 FR 7254 (January 27, 2021).

⁴ See Sylvamo's Letter, “Request for Changed Circumstances Review and Successor-in-Interest Determination,” dated October 4, 2021.

Scope of the Order

The merchandise covered by the Order is uncoated paper. For a complete description of the scope of the Order, see the Preliminary Decision Memorandum.

Methodology

We are conducting this CCR in accordance with section 751(b)(1) of the Tariff Act of 1930, as amended (the Act), and 19 CFR 351.216. For a full description of the methodology underlying our preliminary conclusions, see the Preliminary Decision Memorandum.⁵ A list of the topics discussed in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

⁵ See Memorandum, “Decision Memorandum for the Initiation and Preliminary Results of the Changed Circumstances Review of the Antidumping Duty Order on Certain Uncoated Paper from Brazil,” dated concurrently with this notice.

Initiation and Preliminary Results of CCR

Pursuant to section 751(b)(1) of the Act and 19 CFR 351.216(d), Commerce will conduct a CCR upon receipt of information concerning, or a request from an interested party for a review of, an AD order which shows changed circumstances sufficient to warrant a review of the order.

We find that the information regarding IP and IPEX's name changes to SVBR and SVEX, respectively, demonstrates changed circumstances sufficient to warrant a CCR with respect to the Order. Therefore, we are initiating a CCR to determine whether SVBR and SVEX are the successors-in-interest to IP and IPEX, respectively, for purposes of the Order.

Pursuant to 19 CFR 351.221(c)(3)(ii)), Commerce may combine the notice of initiation of a CCR and the notice of preliminary results of a CCR into a single notice if Commerce concludes that expedited action is warranted. We have on the record the information necessary to make a preliminary finding and, therefore, we find that expedited action is warranted. Consequently, we are combining the initiation of the CCR described above and our preliminary results.

In determining whether one company is the successor to another for AD purposes, Commerce examines a number of factors including, but not limited to, changes in: (1) Management; (2) production facilities; (3) suppliers; and (4) customer base.⁶ While no single factor or combination of factors will necessarily provide a dispositive indication of a successor-in-interest relationship, Commerce will generally consider one company to be the successor to a previous company if its resulting operations are not materially dissimilar to those of its predecessor.⁷ Thus, if the evidence demonstrates that, with respect to the production and sale of the subject merchandise, the company, in its current form, operates as essentially the same business entity as the prior company, Commerce will assign the new company the cash deposit rate of its predecessor.⁸

⁶ See Initiation and Preliminary Results of Antidumping Duty Changed Circumstances Review: Multilayered Wood Flooring from the People's Republic of China, 79 FR 48117 (August 15, 2014), unchanged in Multilayered Wood Flooring from the People's Republic of China: Final Results of Changed Circumstances Review, 79 FR 58740 (September 30, 2014).

⁷ Id.

⁸ See, e.g., Certain Preserved Mushrooms from India: Initiation and Preliminary Results of Changed-Circumstances Review, 67 FR 78416 (December 24, 2002), unchanged in Certain Preserved Mushrooms from India: Final Results of Changed-Circumstances Review, 68 FR 6884 (February 11, 2003); and Fresh and Chilled Atlantic Salmon from Norway: Final Results of Changed Circumstances Antidumping Administrative Review, 64 FR 9979, 9980 (March 1, 1999).

Sylvamo provided evidence that: (1) IP and IPEX's names changed to SVBR and SVEX, respectively, in August 2021, and the companies were transferred from their ultimate parent company, the International Paper Company, to a new parent company, Sylvamo Corp., in October 2021; ⁹ and (2) there were no significant changes to management,¹⁰ production facilities,¹¹ suppliers,¹² or customer base.¹³ Based on these facts, which are explained in greater detail in the accompanying Preliminary Decision Memorandum, we preliminarily determine that SVBR and SVEX are the successors-in-interest to IP and IPEX, respectively, for purposes of the Order, and, thus, Sylvamo is the successor-in-interest to International Paper.

⁹ See CCR Letter at 2.

¹⁰ Id. at Attachments 9, 10, 12, and 13.

¹¹ Id. at Attachment 11.

¹² Id. at Attachment 16.

¹³ Id. at Attachment 14.

Should our final results of review remain unchanged from these preliminary results of review, we will instruct U.S. Customs and Border Protection to apply International Paper's cash deposit rate to Sylvamo.

Public Comment

Pursuant to 19 CFR 351.310(c), any interested party may request a hearing within 14 days of publication of this notice.¹⁴ In accordance with 19 CFR 351.309(c)(1)(ii), interested parties may submit case briefs not later than 14 days after the date of publication of this notice.¹⁵ Rebuttal briefs, limited to issues raised in case briefs, may be filed not later than seven days after the due date for case briefs, in accordance with 19 CFR 351.309(d).¹⁶ Parties who submit case briefs or rebuttal briefs in this CCR are requested to submit with each argument: (1) A statement of the issues; (2) a brief summary of the arguments; and (3) a table of authorities.¹⁷

¹⁴ Commerce is exercising its discretion under 19 CFR 351.310(c) to alter the time limit for requesting a hearing.

¹⁵ Commerce is exercising its discretion under 19 CFR 351.309(c)(1)(ii) to alter the time limit for the filing of case briefs.

¹⁶ See Temporary Rule Modifying AD/CVD Service Requirements Due to COVID-19, 85 FR 17006, 17007 (March 26, 2020).

¹⁷ See 19 CFR 351.309(c)(2).

Hearing requests should contain the following information: (1) The party's name, address, and telephone number; (2) the number of participants; and (3) a list of the issues to be discussed. Oral presentations at the hearing will be limited to issues raised in the briefs. If a request for a hearing is made, Commerce intends to hold the hearing at a time and date to be determined. Parties should confirm the date and the time of the hearing two days before the scheduled date.

All submissions must be filed electronically using Enforcement and Compliance's Antidumping and Countervailing Duty Centralized Electronic Service System (ACCESS), and must also be served on interested parties.¹⁸ An electronically-filed document must be received successfully in its entirely by ACCESS by 5:00 p.m. Eastern Time (ET) on the due date.¹⁹ Note that Commerce has temporarily modified certain requirements for serving documents containing business proprietary information, until further notice.²⁰

¹⁸ ACCESS is available to registered users at https://access.trade.gov.

¹⁹ See 19 CFR 351.303(b).

²⁰ See Temporary Rule Modifying AD/CVD Service Requirements Due to Covid-19; Extension of Effective Period, 85 FR 41363 (July 10, 2020).

Consistent with 19 CFR 351.216(e), we intend to issue the final results of this CCR no later than 270 days after the date on which this reviews was initiated, or within 45 days of publication of these preliminary results, if all parties agree to the preliminary findings.

Notification to Interested Parties

We are issuing and publishing this initiation and preliminary results notice in accordance with section 751(b)(1) and 777(i)(1) of the Act, and 19 CFR 351.216(b) and 351.221(c)(3).

Dated: November 19, 2021.
Ryan Majerus,
Deputy Assistant Secretary for Policy and Negotiations, performing the non-exclusive functions and duties of the Assistant Secretary for Enforcement and Compliance.

Appendix

List of Topics Discussed in the Preliminary Decision Memorandum

I. Summary

II. Background

III. Scope of the Order

IV. Successor-in-Interest Determination

V. Recommendation

[FR Doc. 2021-25781 Filed 11-24-21; 8:45 am]

BILLING CODE 3510-DS-P